DEPARTMENT OF THE INTERIOR

Office of Surface Mining Reclamation and Enforcement

Notice of Proposed Information Collection

AGENCY: Office of Surface Mining Reclamation and Enforcement.

ACTION: Notice and request for comments.

SUMMARY: In compliance with the Paperwork Reduction Act of 1995, the Office of Surface Mining Reclamation and Enforcement (OSM) is announcing its intention to renew the approval for the collection of information under 30 CFR Part 842 which allows the collection and processing of citizen complaints and requests for inspection. The collection described below has been forwarded to the Office of Management and Budget (OMB) for review and approval. The information collection request describes the nature of the information collection and the expected burden and cost.

DATES: OMB has up to 60 days to approve or disapprove the information collection but may respond after 30 days. Therefore, public comments should be submitted to OMB by June 8, 2005, in order to be assured of consideration.

ADDRESSES: Submit comments to the Office of Information and Regulatory Affairs, Office of Management and Budget, Attention: Department of Interior Desk Officer, by telefax at (202) 395-6566 or via e-mail to OIRA_DOCKET@omb.eop.gov. Also, please send a copy of your comments to John A. Trelease, Office of Surface Mining Reclamation and Enforcement, 1951 Constitution Ave., NW., Room 202—SIB, Washington, DC 20240, or electronically to jtreleas@osmre.gov.

FOR FURTHER INFORMATION CONTACT: To request a copy of the information collection request, explanatory information and related form, contact John A. Trelease at (202) 208-2783, or electronically to jtrelease@osmre.gov.

SUPPLEMENTARY INFORMATION: OMB regulations at 5 CFR 1320, which implement provisions of the Paperwork Reduction Act of 1955 (Pub. L. 104-133), require that interested members of the public and affected agencies have an opportunity to comment on information collection and recordkeeping activities [see 5 CFR 1320.8(d)]. OSM has submitted a request to OMB to approve the collection of information in 30 CFR Part 842, Federal inspections and monitoring. OSM is requesting a 3-year term of approval for this information collection activity.

An agency may not conduct or sponsor, and a person is not required to respond to, a collection of information unless it displays a currently valid OMB control number. The OMB control number for this collection of information, 1029-0118, has been placed on the electronic citizen complaint form that may be found on OSM's home page at http://www.osmre.gov/citizen.htm.

As required under 5 CFR 1320.8(d), a Federal Register notice soliciting comments on this collection of information was published on January 21, 2005 (70 FR 3224). No comments were received. This notice provides the public with an additional 30 days in which to comment on the following information collection activity:

Title: Federal inspections and monitoring—30 CFR Part 842.

OMB Control Number: 1029-0118.

Summary: For purposes of information collection, this part establishes the procedures for any person to notify the Office of Surface Mining in writing of any violation that may exist at a surface coal mining operation. The information will be used to investigate potential violations of the Act or applicable State regulations.

Bureau Form Number: None.

Frequency of Collection: Once.

Description of Respondents: Citizens, public interest groups, State governments.

Total Annual Responses: 119.

Total Annual Burden Hours: 89 hours.

Send comments on the need for the collections of information for the performance of the functions of the agency; the accuracy of the agency's burden estimates; ways to enhance the quality, utility and clarity of the information collections; and ways to minimize the information collection burdens on respondents, such as use of automated means of collections of the information, to the addresses identified in the ADDRESSES section. Please include the appropriate OMB control number in all correspondence.

Dated: April 29, 2005.
Dennis G. Rice,
Acting Chief, Division of Regulatory Support.

[FR Doc. 05-9190 Filed 5-6-05; 8:45 am]

BILLING CODE 4310-05-M